ENVIRONMENTAL PROTECTION AGENCY

[EPA-HQ-OPP-2010-0194; FRL-8814-9]

Centers for Disease Control and Prevention; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to the Centers for Disease Control and Prevention in accordance with 40 CFR 2.309(c) and 2.308(h)(2). The Centers for Disease Control and Prevention will perform work for OPP under an Interagency Agreement (IAG). Access to this information will enable Centers for Disease Control and Prevention to fulfill the obligations of the IAG.

DATES: The Centers for Disease Control and Prevention will be given access to this information on or before March 29, 2010.

FOR FURTHER INFORMATION CONTACT: Felicia Croom, Information Technology and Resources Management Division (7502P), Office of Pesticide Programs, Environmental Protection Agency, 1200 Pennsylvania Ave., NW., Washington, DC 20460-0001; telephone number: (703) 305-0786; e-mail address: croom.felicia@epa.gov.

SUPPLEMENTARY INFORMATION:

I. General Information

A. Does this Action Apply to Me?

This action applies to the public in general. As such, the Agency has not attempted to describe all the specific entities that may be affected by this action. If you have any questions regarding the applicability of this action to a particular entity, consult the person listed under FOR FURTHER INFORMATION CONTACT.

B. How Can I Get Copies of this Document and Other Related Information?

EPA has established a docket for this action under docket identification (ID) number EPA-HQ-OPP-2010-0194. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Contractor Requirements

Under this IAG, which supports the OPP's regulatory efforts, the Centers for Disease Control and Prevention will support ongoing effort to coordinate and understand efficacy determinations for products used to control Pests of Public Health Significance (as specified in PR Notice 2002-1 at: http://www.epa.gov/opppmsd1/PR_Notices/pr 2002-1).

The OPP has determined that the IAG involves work that is being conducted in connection with FIFRA, in that pesticide chemicals will be the subject of certain evaluations to be made under this IAG. These evaluations may be used in subsequent regulatory decisions under FIFRA.

Some of this information may be entitled to confidential treatment. The information has been submitted to EPA under sections 3, 4, 6, and 7 of FIFRA and under sections 408 and 409 of FFDCA.

In accordance with the requirements of 40 CFR 2.309(c), 2.307(h), and 2.308(h)(2), this IAG with the Centers for Disease Control and Prevention, prohibits use of the information for any purpose not specified in the IAG; prohibits disclosure of the information to a third party without prior written approval from the Agency; and requires that each official and employee of the subcontractor sign an agreement to protect the information from unauthorized release and to handle it in accordance with the FIFRA Information Security Manual. In addition, the Centers for Disease Control and Prevention are required to submit for EPA approval a security plan under which any CBI will be secured and protected against unauthorized release or compromise. No information will be provided to the Centers for Disease Control and Prevention until the requirements in this document have been fully satisfied. Records of information provided under this IAG will be maintained by EPA Project Officers for this contract. All information supplied to the Centers for Disease Control and Prevention by EPA for use in connection with this IAG will be returned to EPA when the Centers for Disease Control and Prevention have completed their work.

List of Subjects

Environmental protection, Business and industry, Government contracts, Government property, Security measures.

Dated: March 3, 2010.
Oscar Morales,
Director, Information Technology and Resources Management Division, Office of Pesticide Programs.

[FR Doc. 2010-5968 Filed 3-18-10; 8:45 a.m.]

BILLING CODE 6560-50-S